DEPARTMENT OF JUSTICE

Notice of Lodging of Consent Decree Under the Resource Conservation and Recovery Act, Toxic Substances Control Act, and Clean Water Act

Under 28 CFR 50.7, notice is hereby given that on February 1, 2002, a proposed Consent Decree in United States v. Transcontinental Gas Pipe Line Corp., Civil Action No. H-02-0387 was lodged with the United States District Court for the Southern District of Texas.

In this action the United States sought injunctive relief and civil penalties related to the natural gas pipeline owned and operated by Transcontinental Gas Pipe Line Corp. (Transco) which stretches from Texas to New York. In the Complaint, the United States seeks injunctive relief and civil penalties pursuant to Resource Conservation and Recovery Act (RCRA) Section 3008(a), (g), and (h), 42 U.S.C. 6928(a), (g), and (h); Clean Water Act (CWA) section 301(a), 33 U.S.C. 1311(a); and Toxic Substances Control Act (TSCA) sections 6 and 17, 15 U.S.C. 2605 and 2616. The United States resolves these claims in the proposed Consent Decree which also requires Transco to perform corrective action consisting of soil and groundwater cleanup of hazardous wastes along its pipeline; perform PCB cleanup work; complete a stormwater discharge monitoring program; and pay a civil penalty of $1.4 million.

The Department of Justice will receive comments relating to the Consent Decree for a period of thirty (30) days from the date of this publication. Comments should be addressed to the Assistant Attorney General, Environment and Natural Resources Division, PO Box 7611, U.S. Department of Justice, Washington, DC 20044-7611, and should refer to United States v. Transcontinental Gas Pipe Line Corp., No. H-02-0387 (S.D. Tex.), D.J. Ref. 90-7-1-909.

The Consent Decree may be examined at the Office of the United States Attorney for the Southern District of Texas, 910 Travis, Suite 1500, Houston, TX 77002, and at the Enforcement and Compliance Docket Information Center, U.S. Environmental Protection Agency, Rm. 4033, Ariel Rios Bldg., 1200 Pennsylvania Avenue, NW., Washington, DC 20004. A copy of the Consent Decree may also be obtained by mail from the Consent Decree Library, PO Box 7611, U.S. Department of Justice, Washington, DC 20044-7611 or by faxing a request to Tonia Fleetwood, fax no. (202) 514-0097, phone confirmation number (202) 514-1547. When requesting a full copy with all exhibits, please enclose a check in the amount of $85.25 (25 cents per page reproduction cost) payable to the U.S. Treasury. When requesting a copy without exhibits, please enclose a check in the amount of $16.25 (25 cents per page reproduction cost) payable to the U.S. Treasury.

Thomas Mariani,
Assistant Chief, Environmental Enforcement Section, Environment and Natural Resources Division.

[FR Doc. 02-5753 Filed 3-8-02; 8:45 am]

BILLING CODE 4410-15-M